DEPARTMENT OF ENERGY

Federal Energy Regulatory Commission

Combined Notice of Filings

Take notice that the Commission has received the following Natural Gas Pipeline Rate and Refund Report filings:

Filings Instituting Proceedings

Docket Numbers: PR22-59-000.

Applicants: EasTrans, LLC.

Description: § 284.123(g) Rate Filing: EasTrans SOC 6.0.0 to be effective 9/1/2022.

Filed Date: 8/30/22.

Accession Number: 20220830-5055.

Comment Date: 5 p.m. ET 9/20/22.

284.123(g) Protests Due: 5 p.m. ET 10/31/22.

Docket Numbers: PR22-60-000.

Applicants: DCP Guadalupe Pipeline, LLC.

Description: § 284.123(g) Rate Filing: DCP Guadalupe SOC 8.0.0 to be effective 9/1/2022.

Filed Date: 8/30/22.

Accession Number: 20220830-5056.

Comment Date: 5 p.m. ET 9/20/22.

284.123(g) Protests Due: 5 p.m. ET 10/31/22.

Docket Numbers: RP22-1160-000.

Applicants: Northwest Pipeline LLC.

Description: § 4(d) Rate Filing: 2022 Winter Fuel Filing to be effective 10/1/2022.

Filed Date: 8/30/22.

Accession Number: 20220830-5041.

Comment Date: 5 p.m. ET 9/12/22.

Docket Numbers: RP22-1161-000.

Applicants: LA Storage, LLC.

Description: § 4(d) Rate Filing: LA Storage, LLC—Tariff Updates and Houskeeping Revisions to be effective 10/1/2022.

Filed Date: 8/30/22.

Accession Number: 20220830-5060.

Comment Date: 5 p.m. ET 9/12/22.

Docket Numbers: RP22-1162-000.

Applicants: Natural Gas Pipeline Company of America LLC.

Description: § 4(d) Rate Filing: Negotiated Rate Agreement Filing-Mercuria Energy America, LLC to be effective 9/1/2022.

Filed Date: 8/30/22.

Accession Number: 20220830-5084.

Comment Date: 5 p.m. ET 9/12/22

Docket Numbers: RP22-1163-000.

Applicants: Algonquin Gas Transmission, LLC.

Description: § 4(d) Rate Filing: Negotiated Rates—Con Ed to NE 809165 to be effective 9/1/2022.

Filed Date: 8/30/22.

Accession Number: 20220830-5092.

Comment Date: 5 p.m. ET 9/12/22.

Docket Numbers: RP22-1164-000.

Applicants: Texas Eastern Transmission, LP.

Description: § 4(d) Rate Filing: Negotiated Rates—Con Ed to Direct En 8978154 to be effective 9/1/2022.

Filed Date: 8/30/22.

Accession Number: 20220830-5112.

Comment Date: 5 p.m. ET 9/12/22.

Docket Numbers: RP22-1165-000.

Applicants: Adelphia Gateway, LLC.

Description: § 4(d) Rate Filing: Adelphia Non-Conforming and NRA filing August 30, 2022 to be effective 9/1/2022.

Filed Date: 8/30/22.

Accession Number: 20220830-5122.

Comment Date: 5 p.m. ET 9/12/22.

Docket Numbers: RP22-1166-000.

Applicants: Alliance Pipeline L.P.

Description: § 4(d) Rate Filing: Negotiated Rates—Various Sept 1 2022 Releases to be effective 9/1/2022.

Filed Date: 8/31/22.

Accession Number: 20220831-5014.

Comment Date: 5 p.m. ET 9/12/22.

Docket Numbers: RP22-1167-000.

Applicants: Eastern Gas Transmission and Storage, Inc.

Description: § 4(d) Rate Filing: EGTS—August 31, 2022 Negotiated Rate Agreements to be effective 10/1/2022.

Filed Date: 8/31/22.

Accession Number: 20220831-5015.

Comment Date: 5 p.m. ET 9/12/22.

Docket Numbers: RP22-1168-000.

Applicants: Equitrans, L.P.

Description: § 4(d) Rate Filing: Non-Conforming Negotiated Rate Agreements—10/1/2022 to be effective 10/1/2022.

Filed Date: 8/31/22.

Accession Number: 20220831-5016.

Comment Date: 5 p.m. ET 9/12/22.

Docket Numbers: RP22-1169-000.

Applicants: MoGas Pipeline LLC.

Description: § 4(d) Rate Filing: MoGas Pipeline Annual Fuel Tracker Filing to be effective 10/1/2022.

Filed Date: 8/31/22.

Accession Number: 20220831-5017.

Comment Date: 5 p.m. ET 9/12/22.

Docket Numbers: RP22-1170-000.

Applicants: MountainWest Pipeline, LLC.

Description: § 4(d) Rate Filing: PAL1 Contracting Procedures to be effective 10/1/2022.

Filed Date: 8/31/22.

Accession Number: 20220831-5019.

Comment Date: 5 p.m. ET 9/12/22.

Docket Numbers: RP22-1171-000.

Applicants: Florida Gas Transmission Company, LLC.

Description: § 4(d) Rate Filing: Fuel Filing on 8-31-22 to be effective 10/1/2022.

Filed Date: 8/31/22.

Accession Number: 20220831-5024.

Comment Date: 5 p.m. ET 9/12/22.

Docket Numbers: RP22-1173-000.

Applicants: Cove Point LNG, LP.

Description: Compliance filing: Cove Point—2022 Revenue Crediting Report to be effective N/A.

Filed Date: 8/31/22.

Accession Number: 20220831-5027.

Comment Date: 5 p.m. ET 9/12/22.

Docket Numbers: RP22-1174-000.

Applicants: WBI Energy Transmission, Inc.

Description: § 4(d) Rate Filing: Semi-Annual Fuel and Electric Power Adjustment to be effective 10/1/2022.

Filed Date: 8/31/22.

Accession Number: 20220831-5028.

Comment Date: 5 p.m. ET 9/12/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 31, 2022.
Debbie-Anne A. Reese,
Deputy Secretary.

[FR Doc. 2022-19246 Filed 9-6-22; 8:45 am]

BILLING CODE 6717-01-P